DEPARTMENT OF AGRICULTURE

Natural Resources Conservation Service

Notice of Intent: To Request a Revision of a Currently Approved Information Collection

AGENCY: Natural Resources Conservation Service, United States Department of Agriculture.

ACTION: Notice and request for comments.

SUMMARY: In accordance with the Paperwork Reduction Act of 1995 (Pub. L. 104-13), and the Office of Management and Budget (OMB) regulations at 5 CFR part 1320 (60 FR 44978, August 29, 1995), this notice announces the Natural Resources Conservation Service's (NRCS) intention to request a revision to a currently approved information collection, Long Term Contracting.

DATES: Comments will be received for a 60-day period commencing with the date of this publication.

Additional Information or Comments: Contact Phyllis I. Williams, Agency OMB Clearance Officer, Natural Resources Conservation Service, Department of Agriculture, 5601 Sunnyside Avenue, Mailstop 5460, Beltsville, Maryland 20705-5000; (301) 504-2170; phyllis.i.williams@usda.gov.

SUPPLEMENTARY INFORMATION: Title: Application for Payment.

OMB Number: 0578-0013.

Expiration Date of Approval: June 30, 2003.

Type of Request: To continue with a change of a currently approved collection for which the approval will expire.

Abstract: The primary objective of the Natural Resources Conservation Service (NRCS) is to work in partnership with the American people and the farming and ranching community to conserve and sustain our natural resources. The purpose of Long-Term Contracting information collection is to provide for programs to extend cost sharing and technical assistance through long-term contracts to landowners and others. These contracts provide for making land use changes and installing conservation measures and practices to conserve, develop, and use the soil, water, and related natural resources on private lands. For cost-share programs, Federal financial and technical assistance is based on a conservation plan that is made a part of an agreement, contract or easement, for a period of time of no less than 1 year, no more than 15 years. Under the terms of the agreement, the participant agrees to apply, or arrange to apply, the conservation treatment specified in the conservation plan. In return for this agreement, Federal cost-share payments are made to the land user, or third party, upon successful application of the conservation treatment. NRCS purchases easement programs and provides for the protection and management for the life of the easement.

The information collected through this package is used by NRCS to ensure the proper use of program funds, including the application for participation, contract implementation, conservation planning, and application for payment. The table below lists the forms in this collection, the use of each document, and the applicable programs for the information collection. These forms constitute this information collection, and reflect the documents used by Department of Agriculture (USDA) program participants to indicate their desire to participate in one or more of the applicable programs. To obtain copies of forms referenced, access the Service Center Web site address at http://www.sc.egov.usda.gov. You may also e-mail your request and/or comments, including your address, phone number, and form number, to terri.jackson@usda.gov, or call the Forms Manager at (301) 504-2164.

OMB 0578-0013, Long-Term Contracting Information Collection Package—Forms Included—7 CFR 630
Form No. | Forms superceded | Form title and usage | Previous OMB No. | Program ¹
AD-1153 | NRCS-LTP-01 and CCC-1250 | Application for Long-Term Contracted Assistance—(Used for the initial program application) | 0578-0013 | EWP-FPEC; WPFPP, WRP, WHIP, GRP; FPP
AD-1154 | NRCS-LTP-02 and CCC-1251 | Long Term Contract/Agreement for NRCS Cost-Share Programs—(Used for contract obligation) | 0578-0013 | EWP-FPEC; WPFPP, WRP, WHIP, GRP; FPP
AD-1154D | New Program | Appendix; Special Provisions for the Grassland Reserve Incentives Programs | New Program | GRP
AD-1154E |  | Appendix; Special Provisions for the Farmland Protection Program | 0578-0013 | FPP
AD-1155 | NRCS-LTP-11; CCC-1252 | Conservation Plan/Schedule of Operations—(Used to develop and list the applicable conservation practices/measures to be applied, the amounts to be applied, and the estimated financial assistance obligation) | 0578-0013 | EWP-FPEC; WPFPP, WRP, WHIP, EQIP, AMA, CSP, GRP, SWCA, CRP, RCWP, RAMP, GPCP, CRSCP, WQIP; IEQIP, FIP, ECP
AD-1155A | NRCS-LTP-11B; CCC-1252B | Conservation Plan/Schedule of Operations—Acceptance Page—(Used by the agency and participant to accept the Conservation Plan, summarize the obligations, and finalize the contract) | 0578-0013 | EWP-FPEC; WPFPP, WRP, WHIP, EQIP, AMA, CSP, GRP, SWCA, CRP, RCWP, RAMP, GPCP, CRSCP, WQIP; IEQIP, FIP, ECP
AD-1156 | NRCS-LTP-12; CCC-1253 | Revision of Plan or Schedule of Operations or Modifications of Contract—(Used to make any modifications to the practices and/or measures to be applied during the contract period) | 0578-0013 | EWP-FPEC; WPFPP, WRP, WHIP, EQIP, AMA, CSP, GRP, SWCA, CRP, RCWP, RAMP, GPCP, CRSCP, WQIP; IEQIP, FIP, ECP
AD-1157 | NRCS-LTP-20A; CCC-1255A | Option Agreement to Purchase—(Used by the participant to indicate his/her desire to continue in the program after an initial acceptance of eligibility has been provided) | 0578-0013 | WRP, EWP-FPE; GRP
AD-1157A | CCC-1255A; NRCS-LTP-20 | Option Agreement to Purchase, Amendment 1 | 0578-0013 | WRP; EWP-FPE; GRP
AD-1158 | NRCS-LTP21; CCC-1256 | Subordination Agreement and Limited Lien Waiver “ (Used to remove encumbrances of the title for USDA to acquire an easement) | 0578-0013 | WRP; EWP-FPE; GRP
AD-1159 | NRCS-LTP-24; CCC-1257 | Notification of Intent to Continue—(Used by the participant to indicate his/her desire to continue in the program after an initial acceptance of eligibility has been provided) | 0578-0013 | WRP; EWP-FPE; GRP
AD-1160 | NRCS-LTP-25; CCC-1258 | Compatible Use Authorization—(Used by the agency to authorize uses compatible with the program purposes as requested by the program participant on easement acquisitions) | 0578-0013 | EWP-FP; WRP; GRP
AD-1161 | NRCS-FNM-141; CCC-1202 | Application for Payment—(Used by the program participant to apply for payment in exchange for implementing one or more conservation practices or measures) | 0578-0018 | CRSCP; EWP; FIP; GPCP; IEQIP; RC&D; RAMP; FPP; WPFPP; WRP (direct appropriated funds); WHIP
CCC-1200 |  | Conservation Program Contract—(Used to make initial application, and serve as the contractual document upon acceptance into the program) | 0560-0174 (Pkg transferred from FSA) and 0578-0028 | EQIP, AMA, CSP, GRP, FPP, SWCA
CCC-1200A |  | Appendix; Special Provisions for the Environmental Quality Incentives Program | 0560-0174 (Pkg transferred from FSA) and 0578-0028 | EQIP
CCC-1200 AMA |  | Appendix; Special Provisions for the Agricultural Management Assistance Program | 0560-0174 (Pkg transferred from FSA) and 0578-0028 | AMA
CCC-1200C | New Program | Appendix; Special Provisions for the Conservation Security Program | New Program | CSP
CCC-1201 | New | Application Evaluation Worksheet—(Used by the agency to evaluate the environmental benefits of a participants proposed conservation plan of operations and for ranking the applications) | 0560-0174 | EQIP
CCC-1245 |  | Practice Approval and Payment Application (Used by the program participant to apply for payment in exchange for implementing one or more conservation practices or measures) | 0560-01740174 (Package transferred from FSA) and 0578-0028 | EQIP, AMA, CSP, GRP, FPP; SWCA
CCC-1255 |  | Warranty Easement Deed (Permanent)—(Used to encumber the easement acreage and transfer easement to USDA) | 0578-0013 | WRP
CCC-1255A | New | Option to Purchase Agreement (30-year)—(Used by the participant to indicate his/her desire to continue in the program after an initial acceptance of eligibility has been provided) | Form No. Previously used for another purpose | WRP
CCC-1255B | New | Warranty Easement Deed (30-year)—(Used to encumber the easement acreage and transfer easement to USDA) | Form No. Previously used for another purpose | WRP
NRCS-CPA-38 |  | Request for a Certified Wetland Determination—(Used by USDA participants to request a certified wetland determination) | 0578-0013 | WC; WRP; EWP-FPEP; WHIP; CRP
NRCS-LTP-13 |  | Conservation Program Status Review—(Used by the agency and the participant to review the status of contract or agreement implementation) | 0578-0013 | EWP-FPEC; WPFPP, WRP, WHIP, EQIP, AMA, CSP, GRP, SWCA, CRP, RCWP, RAMP, GPCP, CRSCP, WQIP; IEQIP, FIP, ECP, CTA; HELC/WC
NRCS-LTP-20 |  | Warranty Easement Deed (Permanent)—(Used to encumber the easement acreage and transfer easement to USDA) | 0578-0013 | EWP-FPE
NRCS-LTP-151 |  | Notice of Agreement or Contract Violation—(Used by the agency to notify contract holders of contract violations) | 0578-0013 | CRSCP; GPCP; IEQIP; RAMP; RCWP; WBP; WHIP
NRCS-LTP-152 |  | Transfer Agreement—(Used by the agency and the program participant to transfer the program contract or agreement to another entity) | 0578-0013 | CRSCP; GPCP; IEQIP; RAMP; RCWP; WBP; WHIP
NRCS-LTP-153 |  | Agreement Covering Non-Compliance with Contract Provisions—(Used by the agency to notify program participants of non-compliance with program contracts or agreements) | 0578-0013 | CRSCP; GPCP; IEQIP; RAMP; RCWP; WBP; WHIP
¹ Conservation Programs and Authorities are as follows:
AMA—Agricultural Management Assistance; Pub. L. 106-224, Section 133(b); Pub. L. 107-171, Section 2501
EWP-FPEC—Emergency Watershed Program, Floodplain Easement Component; 16 U.S.C. 2203; 7 CFR 624
CRP—Conservation Reserve Program; 16 U.S.C. 3831-3836; 7 CFR 1410
CRSCP—Colorado River Salinity Control Program; 7 CFR 702
CSP—Conservation Security Program; Pub. L. 107-171, Sections 2001-2006
CTA—Conservation Technical Assistance; 16 U.S.C. 590 a-f
ECP—Emergency Conservation Program; 7 CFR 701
EQIP—Environmental Quality Incentives Program; 16 U.S.C. 3839aa; 3839aa(1-8); 7 CFR 1466
HELC/WC—Highly Erodible Land and Wetland Conservation Compliance; 7 CFR 12
FIP—Forestry Incentives Program; Pub. L. 95-313, Sec. 4, July 1, 1978, 92 Stat. 367; Pub. L. 101-624, title XII, Secs. 1214, 1224(1), Nov. 28, 1990, 104 Stat. 3525, 3542; 7 CFR 701
FPP—Farmland Protection Program; 16 U.S.C. 3830 note; 7 CFR 1469; Pub. L. 107-171, Section 2503
GPCP—Great Plains Conservation Program; 16 U.S.C. 590p(b); 7 CFR 631
GRP—Grassland Reserve Program; Pub. L. 107-171, Section 2401
IEQIP—Interim Environmental Quality Incentives Program; 7 CFR 631 and 7 CFR 702
RAMP—Rural Abandoned Mine Program; 30 U.S.C. 1236 et seq.; 7 CFR 632
RC&D—Resource Conservation & Development Program; Pub. L. 107-171, Section 2504
RCWP—Rural Clean Water Program; 33 U.S.C. 1288 et seq.; Pub. L. 7 CFR 634
SWCA—Soil and Water Conservation Assistance Program; Pub. L. 106-244, Section 211(b)
WBP—Water Bank Program; 16 U.S.C. 1301-1311; 7 CFR 752
WC—Wetland Conservation Compliance; 16 U.S.C. 3801-3824; 7 CFR 12
WHIP—Wildlife Habitat Incentives Program; 16 U.S.C. 3836a; 7 CFR 636
WPFPP—Watershed Protection and Flood Prevention Program; Pub. L. 83-566; 7 CFR 622
WQIP—Water Quality Incentives Program: 7 CFR 701
WRP—Wetlands Reserve Program; 16 U.S.C. 3837; 3837(a-f); 7 CFR 1467

This request represents a combination of four Information Collection Packages, as follows: OMB Number: 0578-0013, Long Term Contracting; OMB Number: 0578-0018, Application for Payment; OMB Number 0578-0028, Risk Protection Programs; and OMB Number 0560-0174, Environmental Quality Incentives Program, (transferred from the Farm Service Agency). The above table represents all of the forms incorporated into this one information collection, OMB Number 0578-0013. The table below shows a summary of the changes in the package since the previous authorization:

Previous Burden Hours | 162,351.3
Burden Transferred from OMB Number 0560-0174 | 444,609 | (+) Adjustment
Burden Transferred from OMB Number 0578-0018 | 20,731 | (+) Adjustment
Burden Transferred from OMB Number 0578-0028 | 2,917 | (+) Adjustment
Burden Hour Reduction for Electronic Submission, OMB Number 0578-0013 | 1,909.2 | (−) Adjustment
Burden Hour Reduction for Electronic Submission, OMB Number 0578-0018 | 2,961.6 | (−) Adjustment
Burden Hour Reduction for Electronic Submission, OMB Number 0578-0028 | 416.5 | (−) Adjustment
Burden Hour Reduction for Electronic Submission, OMB Number 0560-0174 | 66,691.4 | (−) Adjustment
Proposed Burden Hours |  | 558,930

NRCS will ask for 3-year OMB approval within 60 days of submitting the request.

Estimate of Burden: Public reporting burden for this collection of information is estimated to average 1.41 hours or 84.7 minutes per response.

Respondents: Farms, individuals, or households, or State, local, or Tribal governments.

Estimated Number of Respondents: 396,077.

Estimated Total Annual Burden on Respondents: 558,930.

Copies of this information collection and related instructions can be obtained without charge from Phyllis Williams, the Agency OMB Clearance Officer, at 5602 Sunnyside Avenue, Mailstop 5460, Beltsville, Maryland 20705-5000; (301) 504-2170; phyllis.i.williams@usda.gov.

Comments: Comments are invited on: (a) Whether the proposed collection of information is necessary for the proper performance of the functions of the agency, including whether the information will have practical utility; (b) the accuracy of the agency's estimate of burden of the proposed collection of information, including the validity of the methodology and assumptions used; (c) ways to enhance the quality, utility, and clarity of the information to be collected; and (d) ways to minimize the burden of the collection of information on those who are to respond, such as through the use of appropriate automated, electronic, mechanical, or other technologic collection techniques or other forms of information technology. Comments may be sent to: Phyllis Williams, Agency OMB Clearance Officer, U.S. Department of Agriculture, Natural Resources Conservation Service, 5602 Sunnyside Avenue, Mailstop 5460, Beltsville, Maryland 20705-5000; (301) 504-2170; phyllis.williams@usda.gov.

All responses to this notice will be summarized and included in the request for OMB approval. All comments also will become a matter of public record.

Signed in Washington, DC, on January 24, 2003.
Bruce I. Knight,
Chief, Natural Resources Conservation Service.

[FR Doc. 03-3569 Filed 2-12-03; 8:45 am]

BILLING CODE 3410-16-P